DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of December 7, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Watonwan County, Minnesota and Incorporated Areas
Docket No.: FEMA-B-2235
City of Madelia | City Hall, 18 Drew Avenue Northeast, Madelia, MN 56062.
City of Odin | Fire Hall, 111 1st Street North, Odin, MN 56160.
City of St. James | City Hall, 1205 6th Avenue South, St. James, MN 56081.
Unincorporated Areas of Watonwan County | Watonwan County Resource Center, 108 8th Street South, St. James, MN 56081.
Jackson County, Missouri and Incorporated Areas
Docket No.: FEMA-B-2233
City of Independence | Mayor's Office, 111 East Maple Avenue, Independence, MO 64050.
City of Kansas City | Water Services Administration Building, 4800 East 63rd Street, Kansas City, MO 64130.
City of Levasy | City Hall, 103 Pacific Street, Levasy, MO 64066.
City of Sugar Creek | Mayor's Office, 103 South Sterling Avenue, Sugar Creek, MO 64054.
Unincorporated Areas of Jackson County | Jackson County Executive's Office, 415 East 12th Street, Suite 200, Kansas City, MO 64106.
Clinton County, New York (All Jurisdictions)
Docket No.: FEMA—B-2051 and FEMA B-2186
City of Plattsburgh | City Hall, 41 City Hall Place, Plattsburgh, NY 12901.
Town of Altona | Town Hall, 3124 Miner Farm Road, Altona, NY 12910.
Town of Ausable | Ausable Town Hall, 111 Ausable Street, Keeseville, NY 12944.
Town of Beekmantown | Beekmantown Town Hall, 571 Spellman Road, West Chazy, NY 12992.
Town of Black Brook | Black Brook Town Hall, 18 North Main Street, AuSable Forks, NY 12912.
Town of Champlain | Town Hall, 10729 Route 9, Champlain, NY 12919.
Town of Chazy | Town Hall, 9631 State Route 9, Chazy, NY 12921.
Town of Clinton | Churubusco Town Hall, 23 Smith Street, Churubusco, NY 12923.
Town of Dannemora | Dannemora Municipal Building, 78 Higby Road, Ellenburg Depot, NY 12935.
Town of Ellenburg | Ellenburg Town Municipal Building, 16 St. Edmunds Way, Ellenburg Center, NY 12934.
Town of Mooers | Town Hall, 2508 State Route 11, Mooers, NY 12958.
Town of Peru | Town Hall, 3036 Main Street, Peru, NY 12972.
Town of Plattsburgh | Town Hall, 151 Banker Road, Plattsburgh, NY 12901.
Town of Saranac | Town Hall, 3662 Route 3, Saranac, NY 12981.
Town of Schuyler Falls | Schuyler Falls Town Hall, 997 Mason Street, Morrisonville, NY 12962.
Village of Champlain | Village of Champlain Office, 11104 State Route 9, Champlain, NY 12919.
Village of Dannemora | Village Office, 40 Emmons Street, Dannemora, NY 12929.
Village of Rouses Point | Village Office, 139 Lake Street, Rouses Point, NY 12979.
Ross County, Ohio and Incorporated Areas
Docket No.: FEMA-B-2262
City of Chillicothe | City Administration Building, 35 South Paint Street, Chillicothe, OH 45601.
Unincorporated Areas of Ross County | Ross County Building Department, 15 North Paint Street, Chillicothe, OH 45601.

[FR Doc. 2023-15877 Filed 7-26-23; 8:45 am]

BILLING CODE 9110-12-P